FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicants

Confianca Moving, Inc. dba CWM Logistics, 3533 NW 58th Street, Miami, FL 33142, Officers:Jose Tarcisio de Oliveira, Director (Qualifying Individual), Maria Rosa Carsage, President,

Henry's Lead's Inc. Dba Henry's Ocean Freight, 7102 Drew Hill Lane, Chapel Hill, NC 27514, Officers:Qiang NMN Fu, President (Qualifying Individual), Lixin Bai, Vice President,

Dsecargonet USA, Inc., 11099 S. La Cienega Blvd., Ste. 262, Los Angeles, CA 90045, Officers:Tae W. Park, Secretary (Qualifying Individual), Myung Ki Chai, President,

West Atlantic Cargo Leasing & Services, LLC, 2807 N. Course Drive, Pompano Beach, FL 33069, Officers:Rafael E. Sanchez, Jr., Vice President (Qualifying Individual), Gustavo A. Sanchez, President,

Headwin Global Logistics (USA), Inc., 11222 S. La Cienega Blvd., Ste. 148, Inglewood, CA 90304, Officers:Joanne Gong, Secretary (Qualifying Individual) Bin Bill Liu, CEO,

Reliable Shipping Inc., 14656 Valley Blvd., City of Industry, CA 91746, Officer:Ping Lu, President (Qualifying Individual),

Aeropronto USA Cargo Service Corp., 8272 NW 66th Street, Miami, FL 33166, Officers:Persio D. Diaz, President (Qualifying Individual), Carmen P. Diaz, General Manager.

Non-Vessel Operating Common Carrier and Ocean Freight Forwarder Transportation Intermediary Applicants

Alfa Logistics Corp., 6354 NW 99th Ave., Miami, FL 33178, Officers:Luz A. Varon, Director (Qualifying Individual), Jorge H. Ariviello, President,

Consolidated Freight & Shipping, Inc., 10025 N.W. 116th Way, Ste. #14, Medley, FL 33178, Officer:Thomas Rahn, President (Qualifying Individual),

Zust Bachmeier International, Inc., dba Z Lines dba Zust Bachmeier International, Inc. (ZBI, Inc.), 6201 Rankin Road, Humble, TX 77396, Officer:Albert G. Wichterich, President (Qualifying Individual),

Caronex Worldwide, Inc., 2052 Arnold Way, Fullerton, CA 92833, Officer:Joonsik Kang, CEO (Qualifying Individual),

Amid Logistics, LLC, 2275 E. Hwy. 100, Bldg. 11H, Bunnell, FL 32110, Dmitrly Deych, Sole Proprietor,

Covenant Global Logistics, Inc., 1803 Fan Tall Ct., Crosby, TX 77532, Officers:Mabel G. Gold, Vice President (Qualifying Individual), Ronald E. Gold, President,

UKO Logis, Inc., 879 W. 190th Street, #290, Gardena, CA 90248, Officer:Jae Kim, CFO (Qualifying Individual),

Shipex, LLC, 3341 Rauch Street, Houston, TX 77029, Officer:Khaldoon A. Barakat, CEO (Qualifying Individual),

UTC Overseas, Inc. dba Airport Clearance Service, Inc., 100 Lighting Way, Secucus, NJ 07094, Officer:Robert Schumann, COO (Qualifying Individual),

All Transportdepot, Inc., 4224 Shackleford Road, Suite C, Norcross, GA 30093, Officers:Paul Dawa, CFO/Vice President (Qualifying Individual), Susan Seda, President,

Wheelsky Logistics, Inc., 14515 E. Don Julian Road, City of Industry, CA 91746, Officers:Shuai Yuan, Secretary (Qualifying Individual), Hui-Kuan D. Tsai, President,

HTS, Inc. dba Harte-Hanks Logistics, 1525 NW 3rd Street, Deerfield Beach, FL 33442, Officers:Jorge E. Andino, V. Pres. Of Transportation, (Qualifying Individual) Robert J. Colucci, President,

First Coast Gateway, Inc., 87164 Kipling Drive, Yulee, FL 32097, Officer:Mayra, Guilarte, President (Qualifying Individual),

Continental Services & Carrier, Inc., 5579 NW 72nd Avenue, Miami, FL 33166, Officer:Rodolfo Luciani, Vice President (Qualifying Individual),

G.S. Logistics, Inc., 4892 Dove Cir., LaPalma, CA 90623, Officers:Kun C. Kim, President, (Qualifying Individual) Hwa Y. Yoon, CFO.

Ocean Freight Forwarder—Ocean Transportation Intermediary Applicants

Payless Shipping, Inc., 7721 W. Bellfort Street, #240, Houston, TX 77071, Officers:Simon O. Mozie, President (Qualifying Individual), Michuks P. Enwere, Secretary,

Atom Freights and Travels Services, LLC, 2306 Oak Lane, Ste. 10-12, Grand Prairie, TX 75051, Officers:Olatubosun T. Raymond, CEO, Lateef T. Omolaoye, General Manager (Qualifying Individuals),

Scrap Freight, Inc., 801 S. Garfield Ave., Ste. 101, Alhambra, CA 91801, Officer:Stephen, Long, President (Qualifying Individual),

Integrated Global Logistics, Inc., 850 Chautauqua Ave., Portsmouth, VA 23707, Officers:Jenanne L. Alexander, President (Qualifying Individual), Nicholas C. Palmer, Vice President,

Clark Worldwide Transportation, Inc., 121 New York Ave., Trenton, NJ 08638, Officers:Philip Friend, Exec. Vice President (Qualifying Individual), John J. Barry, President.

Dated: July 17, 2008.
Karen V. Gregory,
Assistant Secretary.

[FR Doc. E8-16795 Filed 7-22-08; 8:45 am]

BILLING CODE 6730-01-P